DEPARTMENT OF HOMELAND SECURITY

Coast Guard

33 CFR Part 165

[Docket No. USCG-2023-0332]

Safety Zone; Seafair Air Show Performance, 2023, Seattle, WA

AGENCY: Coast Guard, Department of Homeland Security (DHS).

ACTION: Notification of enforcement of regulation.

SUMMARY: The Coast Guard will enforce the annual Seafair Air Show Performance safety zone on Lake Washington, Seattle, WA, from 10 a.m. until 4 p.m. on August 3, 2023, and from 8 a.m. until 5 p.m. each day from August 4, 2023, through August 6, 2023. This action is necessary to prevent injury and to protect life and property of the maritime public from the hazards associated with the aerial displays. The regulation prohibits persons and vessels from being in the regulated areas unless authorized by the Captain of the Port Puget Sound or a designated representative.

DATES: The regulations in 33 CFR 165.1319 will be enforced from 10 a.m. until 4 p.m. on August 3, 2023, and from 8 a.m. until 5 p.m. each day from August 4, 2023, through August 6, 2023.

FOR FURTHER INFORMATION CONTACT: If you have questions about this notification of enforcement, call or email Lieutenant Peter J. McAndrew, Sector Puget Sound Waterways Management Division, Coast Guard; telephone (206) 217-6045, email SectorPugetSoundWWM@uscg.mil.

SUPPLEMENTARY INFORMATION: The Coast Guard will enforce the Seafair Air Show Performance safety zone in 33 CFR 165.1319 from 10 a.m. until 4 p.m. on August 3, 2023, and from 8 a.m. until 5 p.m. each day from August 4, 2023, through August 6, 2023, unless canceled sooner by the Captain of the Port. This action is being taken to provide for the safety of life on navigable waterways during this 4-day event. Our regulation for marine events within the Thirteenth Coast Guard District, § 165.1319(b), specifies the location of the regulated area for the Seafair Air Show performance which encompasses portions of Lake Washington.

During the enforcement periods, as reflected in § 165.1319, no person or vessel may enter or remain in the zone except for support vessels and support personnel, vessels registered with the event organizer, or other vessels authorized by the Captain of the Port or designated representatives. Vessels and persons granted authorization to enter the safety zone must obey all lawful orders or directions made by the Captain of the Port or his designated representative.

The Captain of the Port (COTP) may be assisted by other Federal, state, and local law enforcement agencies in enforcing this regulation.

In addition to this notification of enforcement in the Federal Register, the Coast Guard plans to provide notification of this enforcement period via the Local Notice to Mariners and marine information broadcasts.

If the COTP determines that the safety zone need not be enforced for the full duration stated in this notification of enforcement, he may use a Broadcast Notice to Mariners to grant general permission to enter the regulated area.

Dated: May 16, 2023.
P.M. Hilbert,
Captain, U.S. Coast Guard, Captain of the Port Puget Sound.

[FR Doc. 2023-10794 Filed 5-19-23; 8:45 am]

BILLING CODE 9110-04-P